DEPARTMENT OF TRANSPORTATION

Federal Highway Administration

Notice To Rescind Notice of Intent To Prepare an Environmental Impact Statement (EIS): Mills County, IA; Cass County, NE; and Sarpy County, NE

AGENCY: Federal Highway Administration (FHWA), DOT.

ACTION: Rescind notice of intent to prepare an EIS.

SUMMARY: The FHWA is issuing this notice to advise the public that we are rescinding the notice of intent (NOI) to prepare an EIS for improvements proposed to U.S. 34, from Interstate 29 in Mills County, IA, to U.S. 75 in Cass or Sarpy county in Nebraska.

FOR FURTHER INFORMATION CONTACT: Lisa Rold, Transportation Engineer, FHWA Iowa Division Office, 105 Sixth Street, Ames, IA 50010, Ph. 515-233-7307; or James P. Rost, Director, Office of Location and Environment, Iowa Department of Transportation, 800 Lincoln Way, Ames, IA 50010, Ph. 515-239-1798.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) Via telephone in dial-up mode or via the Internet through (2) telnet, (3) FTP, and (4) the World Wide Web.

For dial-in mode a user needs a personal computer, modem, telecommunications software package and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., Eastern Time, Monday through Friday (except federal holidays) by calling the GPO Office of Electronic Information Dissemination Services at 202-512-1530, toll-free at 888-293-6498; sending an e-mail to gpoaccess@gpo.gov; or sending a fax to 202-512-1262.

Access to this notice is also available to Internet users through the Federal Register's home page at http://www.nara.gov/fedreg.

Background

The FHWA, in cooperation with the Iowa Department of Transportation (Iowa DOT) and Nebraska Department of Roads (NDOR), are rescinding the notice of intent to prepare an EIS for improvements proposed to U.S. 34, from Interstate 29 in Mills County, IA, to U.S. 75 in Cass or Sarpy county in Nebraska.

On Sept. 12, 1994, FHWA issued a NOI to prepare an EIS as part of the development process for the replacement of the U.S. 34 bridge over the Missouri River.

In January 1996, a draft EIS was released evaluating the replacement of the U.S. 34 bridge over the Missouri River at the city of Plattsmouth in Cass County, NE.

A multi-step screening process, which included public information meetings and a public hearing, was used to develop and evaluate two alignment alternatives. One alignment was located near the city of Bellevue in Sarpy County, NE, and the other near the city of Plattsmouth in Cass County, NE.

Comments received during and subsequent to the public hearing on the draft EIS determined that consensus could not be reached for identifying a preferred alignment for the final EIS. Consequently, no final EIS will be prepared.

Recently, the Iowa DOT and NDOR agreed to jointly pursue the development of two bridges across the Missouri River, one near Bellevue, NE, and a second near Plattsmouth, NE. As part of this agreement, two environmental impact statements will be prepared, one for each bridge.

The Bellevue bridge replacement study and Plattsmouth bridge replacement study will be the subjects of two separate notices of intent, published subsequent to this notice. Comments or questions concerning the decision to not prepare a Final EIS should be directed to the Iowa Department of Transportation or FHWA at the address provided in the caption FOR FURTHER INFORMATION CONTACT.

(Catalog of Federal Domestic Assistance Program Number 20.205, Highway Planning and Construction. The regulations implementing Executive Order 12372 regarding intergovernmental consultation on Federal programs and activities apply to this program)
(Authority: 23 U.S.C. 315; 49 CFR 1.48)
Dated: January 13, 2003.
Bobby W. Blackmon,
Division Administrator, FHWA Iowa Division.

[FR Doc. 03-1194 Filed 1-17-03; 8:45 am]

BILLING CODE 4910-22-P